DEPARTMENT OF ENERGY

Federal Energy Regulatory Commission

[Docket No. PL02-9-000]

Notice of Public Conference and Agenda

October 21, 2002.

AGENCY: Federal Energy Regulatory Commission.

ACTION: Notice of public conference and agenda.

SUMMARY: The Federal Energy Regulatory Commission will convene a public conference to engage industry members and the public in a dialogue about policy issues facing the natural gas industry today and the Commission's regulations of the industry for the future. The one-day conference will convene at 9 a.m.

DATES: October 25, 2002.

ADDRESSES: Federal Energy Regulatory Commission, 888 First Street, NE., Washington, DC 20426.

FOR FURTHER INFORMATION CONTACT: Ken Niehaus, 888 First Street, NE., Washington, DC 20426, (202) 502-6398.

Natural Gas Markets Conference

[Docket No. PL02-9-000]

October 18, 2002.

1. As announced in the Notice of Conference issued September 26, 2002, the Federal Energy Regulatory Commission (FERC or Commission) will convene a public conference on October 25, 2002, at 9:00 a.m., in the Commission Meeting Room (2C) to engage industry members and the public in a dialogue about policy issues facing the natural gas industry today and the Commission's regulation of the industry for the future. All interested persons are invited to attend.

Location

2. The conference will be held in the Commission Meeting Room. Observers will be accommodated on a space available basis, but seating will also be available in an overflow room, which will have a broadcast of the discussion. All visitors must check-in at the First Street entrance. All visitors should have picture identification readily available to ensure a quick check-in.

Participation

3. The conference consists of four sessions and an open forum. The first session consists of two panels. Panel A will present opposing views on forecasted supply/demand. Panel B, which is comprised of industry representatives, will respond to the first panel's viewpoints. Panel A participants should file written statements concerning their topics in advance to allow the Panel B participants the opportunity to formulate their responses.

4. The second session will discuss the applicability of the Commission's open season and open access requirements to LNG facilities. Proponents for LNG development will discuss concerns that the Commission's policies may interfere with the ability to capitalize necessary upstream development. The third session will focus on whether the Commission's current policies and definitions of gathering and transmission as they apply to offshore facilities help or hinder the development of offshore supply sources. The fourth session consists of two panels that will address flexibility in pipeline operations. They will discuss customer needs and how they can be met.

5. Following the session presentations, the Commission will provide an open forum to provide an opportunity for market participants and other interested persons to raise issues and make policy recommendations for Commission consideration. All open forum presentations should be limited to five minutes. A sign-up sheet for the open forum will be available the morning of the conference.

Procedures To File Comments

6. Panel participants are encouraged to file written statements concerning their topics prior to October 24, 2002. All other interested persons may file additional comments on the issues discussed at the conference, or other matters relevant to this proceeding, by November 15, 2002. Comments should include a one-page, single spaced, position summary. Comments may be filed in paper format or electronically. Those filing electronically do not need to make a paper filing. For paper filings, the original and 14 copies of such comments should be submitted to the Office of the Secretary, Federal Energy Regulatory Commission, 888 First Street, NE, Washington, DC, 20426, and should refer to Docket No. PL02-9-000.

7. Comments filed via the Internet must be prepared in WordPerfect, MS Word, Portable Document Format, or ASCII format. To file the document, access the Commission's Web site (http://www.ferc.gov) and clock on “Make an e-filing,” and then follow the instructions for each screen. First-time users will have to establish a user name and password. The Commission will send an automatic acknowledgment to the sender's e-mail address upon receipt of the comments.

8. User assistance for electronic filing is available at 202-502-8258 or by e-mail to efiling@ferc.gov. Comments should not be submitted to the e-mail address. All comments will be placed in the Commission's public files and will be available for inspection in the Commission's Public Reference Room at 888 First Street, NE, Washington, DC 20426 during regular business hours. Additionally, all written statements and comments may be viewed, printed, or downloaded remotely via Internet through FERC's Homepage using the FERRIS link. User assistance for FERRIS is available at 866-208-3676, or by e-mail at webmaster@ferc.gov.

Off-the-Record Communications

9. The purpose of this conference is to discuss generic issues and not contested cases pending before the Commission. If any comments raise specific issues concerning pending contested cases, those comments will be subject to the Commission's Off-the-Record Communications rules located in Subpart V of Part 385 of the Commission's regulations, including the public notice requirements and sanctions listed in sections 385.2201(h) and (i).

Transcripts

10. Transcripts of the conference will be available from Ace Reporting Company (202-347-3700) for a fee. The transcript also will be available on the Commission's FERRIS system two weeks after the conference. Additionally, Capitol Connection offers the opportunity for remote listening and viewing of the conference. It is available for a fee, live or over the Internet, via C-Band Satellite. Persons interested in receiving the broadcast, or who need information on making arrangements should contact David Reininger or Julia Morelli at Capitol Connection (703-993-3100) as soon as possible or visit the Capitol Connection Web site at http://www.capitolconnection.gmu.edu and click on “FERC.”

11. For additional information, please contact Ken Niehaus at 202 502-6398 or at kenneth.niehaus@ferc.gov.

Linwood A. Watson, Jr.,
Deputy Secretary.

Natural Gas Markets Conference

October 25, 2002.

9:00 AM Opening Remarks

9:10 AM Session I—Supply and Demand—Anticipated long term growth issues.

Moderator—William Hederman, Director—Office of Market Oversight and Investigations

Panel A

Wayne Andrews, Vice President, Equity Research

Raymond James

Vello Kuuskraa, President, Advanced Resources International

Panel B

Craig Chancellor, Calpine Corporation

Mike Warren, Chairman, President & CEO, Energen Corporation

Paul Cicio, Executive Director, Industrial Energy Consumers of America

Fred Fowler, Interstate Natural Gas Association of America

Mike Stice, President, Gas Power, ConocoPhillips

Mark Pinney, Canadian Association of Petroleum Producers

Bruce Schwartz, Director, Corporate & Government Ratings, Standards & Poor

10:15 AM Break

10:30 AM Session II—LNG—Applicability of the Commission open season and open access requirements on LNG import facilities.

Moderator—Ed Murrell, Office of Markets, Tariffs, and Rates

Phil Bainbridge, Vice President, Global LNG, BP Energy Company

Ron P. Billings, Vice President, Global LNG Exxon/Mobile Gas Marketing Company

John Hritcko, Jr., Vice President, Shell NA LNG Inc.

Stephen L. Huntoon, Hackberry LNG Terminal, LLC.

Claude Devillers, Managing Director, Merzbach Group

Richard L Grant, President and CEO, Tractebel LNG, North America

11:30 AM Session III—Offshore Gathering Policy—The Commission's definition of offshore gathering and its impact on the development of offshore facilities.

Moderator—Robert Christin—Office of the General Counsel

Bill Benham, Vice President, Regulatory Affairs BP Energy Company

Joseph W. Kimmel, Vice President, Marketing and Transportation, Shell Offshore Inc.

James Costan, McGuireWoods LLP

David P. Halphen, Shell Gas Transmission

Allen Armstrong, Williams Field Services

W. Jonathan Airey, Independent Petroleum Association of America

12:30 PM Lunch

1:30 PM Session IV—Flexibility in Pipeline Operations—Pipeline infrastructure and its ability to meet the needs of all future customers.

Moderator—Robert Cupina—Office of Energy Projects

Panel A

Tom Skains, President & Chief Operating Officer, Piedmont Natural Gas

Bert Kalish, Vice President, Government Relations, American Public Gas Association

Dena Wiggins, General Counsel, Process Gas Consumers

Craig Chancellor, Calpine Corporation

Harvey Morris, California Public Utility Commission

Panel B

Paul D. Koonce, Senior Vice President, Portfolio Management, Dominion Resources, Inc.

John Hopper, Falcon Storage

Richard Daniel, EnCana Storage

Carl Levander, Vice President, Regulatory & Strategic Initiatives, NiSource Pipeline Group

Frank Ferrazzi, Interstate Natural Gas Association of America

3:00 PM Open Forum

[FR Doc. 02-27271 Filed 10-24-02; 8:45 am]

BILLING CODE 6717-01-P